DEPARTMENT OF JUSTICE

Notice of Lodging of Consent Decree in In re Outboard Marine Corporation, Under the Comprehensive Environmental Response, Compensation and Liability Act (Cercla) and the Resource Conservation and Recovery Act (RCRA)

Notice is hereby given that on January 12, 2005, a proposed Consent Decree was lodged with the United States Bankruptcy Court for the District of Illinois in In re Outboard Marine Corp., No. 00-37405 (Bankr. N.D. Ill.). The Consent Decree among the United States on behalf of U.S. EPA, the State of Illinois, and the Trustee for Debtor Outboard Marine Corporation resolves CERCLA and RCRA causes of action with respect to the OMC Waukegen Facility in Lake County, Illinois, the HOD Landfill Facility in Antioch, Lake County, Illinois, the Marina Cliffs/Northwestern Barrel Facility in South Milwaukee, Wisconsin, and the Aqua-Tech Environmental Inc. Facility in Greer, South Carolina. Under the Consent Decree, the Trustee will pay EPA $2,600,000 towards performance of work relating to a groundwater plume from Plant 2 of the OMC Waukegan Facility under CERCLA, RCRA, and the Illinois Environmental Protection Act. EPA shall also have allowed general unsecured claims of $243,000 for the HOD Landfill Facility, $100,000 for the Marina Cliffs/Northwestern Barrel Facility, $45,000 for the Aqua-Tech Environmental Facility, and $1,612,000 for Plant 2 and the Waukegan Harbor Facility.

The Department of Justice will receive comments relating to the Consent Decree for a period of thirty (30) days from the date of this publication. Comments should be addressed to the Assistant Attorney General, Environment and Natural Resources Division, P.O. Box 7611, U.S. Department of Justice, Washington, DC 20044-7611, and should refer to In re Outboard Marine Corp., D.J. Ref. Nos. 90-11-3-07051/1, /2. Commenters may request an opportunity for a public meeting in the affected area, in accordance with Section 7003(d) of RCRA, 42 U.S.C. 6973(d).

The Consent Decree may be examined at the Office of the United States Attorney for the Northern District of Illinois, U.S. Courthouse, 1500 South, Everett McKinley Dirksen Bldg., 219 South Dearborn St., Chicago, IL 60604 and at the Region 5 Office of the United States Environmental Protection Agency, 77 West Jackson Street, Chicago, Illinois 60604. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 515-0097, phone confirmation number (202) 514-1547. In requesting a copy from the Consent Decree Library, please enclose a check in the amount of $4.00 (25 cents per page reproduction cost) payable to the U.S. Treasury.

W. Benjamin Fisherow,
Deputy Section Chief, Environmental Enforcement Section, Environment and Natural Resources Division.

[FR Doc. 05-1185 Filed 1-21-05; 8:45 am]

BILLING CODE 4410-15-M